DEPARTMENT OF DEFENSE

Department of the Army

Army Science Board, Notice of Open Meeting

In accordance with section 10(a)(2) of the Federal Advisory Committee Act (Pub. L. 92-463), announcement is made of the following Committee Meeting:

Name of Committee: Army Science Board (ASB).

Date(s) of Meeting: 18 & 19 March 2002.

Time(s) of Meeting: 0800-1700, 18 March 2002. 0800-1700, 19 March 2002.

Place: Logistics Management Institute.

1. Agenda: The Logistics Panel of the Army Science Board FY02 Summer Study on “Affordability of the Objective Force” is holding a meeting on 18-19 March 2002. The meeting will be held at the Logistics Management Institute. The meeting will begin at 0800hrs on the 18th and will end at approximately 1700hrs on the 19th. For further information, please contact Mike Hendricks—703-617-7048 or e-mail. Mike.hendricks@hqda.army.mil.

Wayne Joyner,
Program Support Specialist, Army Science Board.

[FR Doc. 02-6343 Filed 3-15-02; 8:45 am]

BILLING CODE 3710-08-M